DEPARTMENT OF THE INTERIOR

Fish and Wildlife Service

RIN 1018-AU27

Policy on Wilderness Stewardship

AGENCY: Fish and Wildlife Service, Interior.

ACTION: Notice of availability.

SUMMARY: We establish policy for implementing the National Wildlife Refuge System Administration Act of 1966, as amended, and the Wilderness Act of 1964 as Part 610 Chapters 1-5 of the Fish and Wildlife Service Manual. In the Wilderness Act, Congress called for the establishment of a National Wilderness Preservation System to secure an “enduring resource of wilderness” for the American public. This policy updates guidance on administrative and public activities on wilderness within the National Wildlife Refuge System (Refuge System).

ADDRESSES: You may download a copy of this policy at: http://www.fws.gov/refuges/policyMakers/NWRpolicies.html or request a copy from: National Wildlife Refuge System, U.S. Fish and Wildlife Service, Attn: Nancy Roeper, National Wilderness Coordinator, 4401 North Fairfax Drive, Room 657, Arlington, VA 22203; fax (703) 358-1929.

FOR FURTHER INFORMATION CONTACT: Nancy Roeper, National Wilderness Coordinator, National Wildlife Refuge System, U.S. Fish and Wildlife Service, 4401 North Fairfax Drive, Room 657, Arlington, Virginia 22203 (telephone: 703-358-2389, fax: 703-358-1929).

SUPPLEMENTARY INFORMATION: We published a draft Wilderness Stewardship policy in the Federal Register on January 16, 2001 (66 FR 3708) and invited the public to provide comments on the draft policy by March 19, 2001. During this comment period, we received several requests to extend the comment period. In response to these requests and in order to ensure that the public had an adequate opportunity to review and comment on the draft policy, we extended the comment period until April 19, 2001 (66 FR 15136). We reopened the comment period from May 15 to June 14, 2001 (66 FR 26879). On June 21, 2001, we again reopened the comment period until June 30, 2001 (66 FR 33268), and corrected the May 15, 2001, notice to reflect that comments received between April 19 and May 15, 2001, would be considered, and need not be resubmitted.

During the 8 years since publication, we made numerous revisions to the draft Wilderness Stewardship policy based on public comments and on internal reviews and discussions by Service managers and staff. We also developed Intergovernmental Personnel Agreements (IPAs) with representatives from five States to facilitate an effective means of involving the State fish and wildlife agencies in the development and implementation of Refuge System policies and guidance, including the Wilderness Stewardship policy. The National Wildlife Refuge System Administration Act of 1966, as amended in 1997 by the Improvement Act (16 U.S.C. 668dd-668ee, as amended) (Administration Act), requires that, in administering the Refuge System, the Fish and Wildlife Service ensure effective coordination, interaction, and cooperation with State fish and wildlife agencies. (State employees under these agreements are on assignment to the Service, serve as Service staff, and are subject to the provisions of law governing the ethical and other conduct of Federal employees.)

This policy is intended to improve the internal management of the Service, and it is not intended to, and does not, create any right or benefit, substantive or procedural, enforceable at law or equity by a party against the United States, its Departments, agencies, instrumentalities or entities, its officers or employees, or any other person.

Purpose of This Policy and Authorities

The purpose of this policy is to implement the Administration Act and the Wilderness Act of 1964, within the Refuge System. This policy replaces existing policy found in the Refuge Manual at 6 RM 8.

The Administration Act provides a mission and goals for the Refuge System. As specially designated areas encompassed within the Refuge System, wilderness directly contributes to the fulfillment of the mission and goals by, for example, protecting a diversity of fish, wildlife, plants, and their habitats and providing opportunities for compatible wildlife-dependent recreation.

The Wilderness Act of 1964 (16 U.S.C. 1131-1136) provides the basis for wilderness protection of the Refuge System. It clearly establishes that, as we carry out the Service mission, the Refuge System mission and goals, and the individual refuge establishing purposes in areas designated as wilderness, we do so in a way that preserves wilderness character. This policy gives refuge managers uniform direction and procedures for making decisions regarding conservation and uses of the Refuge System wilderness areas and incorporates provisions of the Administration Act. The policy prescribes how the refuge manager preserves the character and qualities of designated wilderness while managing for refuge establishing purpose(s), maintaining outstanding opportunities for solitude or a primitive and unconfined type of recreation, and conducting minimum requirements analyses before taking any action in wilderness.

United States Border Security

The Department of Homeland Security (DHS) has waived all of the requirements of a number of Federal statutes, including the Administration Act and the Wilderness Act, with respect to the construction of roads and fixed and mobile barriers in areas of high illegal entry in the vicinity of the southwestern U.S. border. See 73 FR 19078 (April 8, 2008). None of the provisions of the Wilderness Act or the Service's policy on wilderness Stewardship apply to the activities determined by DHS to fall within the waiver. However, there may be other activities related to border security that are geographically removed from the areas of high illegal entry which are not covered by the DHS waiver. Where such an activity is proposed to be located within designated wilderness in the Refuge System and is a generally prohibited use under the Wilderness Act, the Service will conduct minimum requirement analyses. This will determine whether the proposed activities are necessary to administer the area as wilderness and to accomplish the purposes of the refuge, including Wilderness Act purposes.

Policy Summary

For clarity, we reorganized the content of the policy from seven chapters, as first published in 2001, into five chapters as explained in more detail in “Summary of Comments and Changes to the Final Policy.” It is now organized as follows:

Chapter 1 identifies our priorities in implementing the policy, establishes the responsibility for wilderness stewardship, defines terms, describes the broad framework within which we manage wilderness, discusses the philosophical underpinnings of wilderness, and requires compliance with the requirements of the Wilderness Act. It also establishes a process for conducting minimum requirement analyses and establishes training requirements for specific Service employees.

Chapter 2 addresses general administration, natural and cultural resource management, and public use management in wilderness. It clarifies the circumstances under which generally prohibited uses (temporary roads, motor vehicles, motorized equipment, motorboats, mechanical transport, landing of aircraft, structures, and installations) may be necessary for wilderness preservation. It addresses commercial uses, research, and public access. It affirms that we will generally not modify ecosystems, species population levels, or natural processes in refuge wilderness unless doing so maintains or restores biological integrity, diversity, or environmental health that has been degraded or is necessary to protect or recover threatened or endangered species. It describes how we respond to wildland fires and how we may use prescribed fire. It also explains that in wilderness areas, we will emphasize providing opportunities for solitude or a primitive and unconfined type of recreation. Appropriate recreational uses in wilderness include the six wildlife-dependent recreational uses (hunting, fishing, wildlife observation and photography, and environmental education and interpretation) identified in the Improvement Act if they are compatible and do not involve generally prohibited uses. The chapter also addresses special needs for persons with disabilities.

Chapter 3 provides guidance on developing wilderness stewardship plans (WSP). The WSP is a step-down management plan that provides detailed strategies and implementation schedules for meeting the broader wilderness goals and objectives identified in the refuge comprehensive conservation plan. The WSP also includes minimum requirement analyses for all refuge management activities and compatibility determinations for refuge uses in the wilderness area.

Chapter 4 describes the three-part process we follow in conducting wilderness reviews in accordance with the refuge planning process outlined in the planning policy (602 FW 1, 3, and 4). We conduct an inventory to identify areas that meet the basic definition of wilderness and carry out a study to evaluate all the values, resources, and uses within the area. The findings of the study determine whether we will recommend an area for designation as wilderness.

Chapter 5 addresses special provisions of the Alaska National Interest Lands Conservation Act (ANILCA) (16 U.S.C. 4lOhh-3233, 43 U.S.C. 1602-1784) for wilderness stewardship in Alaska. The chapter consolidates and adds to the provisions that were scattered throughout the policy in the previous draft.

Summary of Comments and Changes to the Final Policy

We received approximately 4,130 comment letters in response to the 2001 publication in the Federal Register. The comments were from Federal, State, and local government agencies; nongovernmental organizations; and individuals. Some comments addressed specific elements in the draft policy, while many comments expressed general support without addressing specific elements. We considered all of the information and recommendations for improvement included in the comments and made appropriate changes to the draft policy.

In general, we combined chapters 1 and 2 of the proposed policy into chapter 1 (General Overview); combined chapters 3, 4, and 5 of the proposed policy into chapter 2 (Wilderness Administration and Resource Stewardship); renumbered chapter 6 as chapter 3 (Wilderness Stewardship Planning); and renumbered chapter 7 as chapter 4 (Wilderness Review and Evaluation). We added a new chapter 5 to cover special provisions for wilderness in Alaska, which were scattered throughout the draft policy.

Key to Changes From the 2001 Draft Policy to the Final Policy

The following table compares the format of the 2001 draft and final policies. The table lists each section in chapters 1-5 of the final policy and indicates whether the section is new or where the information was located in the 2001 draft policy.

Final policy | 2001 Draft policy
Chapter 1 General Overview of Wilderness Stewardship Policy
1.1 What is the purpose of Part 610 and this chapter? | 1.1.
1.2 What does this chapter cover? | 1.2.
1.3 What are the authorities for this policy? | 1.3.
1.4 What are the priorities in implementing this policy? | New.
1.5 What do these terms mean? | 1.6.
1.6 Who is responsible for wilderness stewardship in the Service? | 1.4.
1.7 What is wilderness? | New.
1.8 What are the purposes of the Wilderness Act? | 2.7.
1.9 What is the National Wilderness Preservation System (NWPS)? | New.
1.10 How does the Service coordinate stewardship of the NWPS with other Federal agencies? | 2.19.
1.11 How does the Service coordinate wilderness stewardship with State fish arid wildlife agencies? | 1.5.
1.12 What is the broad framework the Service uses to administer wilderness? | 2.4.
1.13 What is wilderness character? | 2.5.
1.14 What are the principles for administering wilderness? | 2.6.
1.15 What is the relationship between wilderness stewardship and compatibility? | New.
1.16 What activities does the Service prohibit in wilderness? | 2.9, 2.11.
1.17 How do refuge managers accomplish both the establishing purpose(s) of a refuge and the purposes of the Wilderness Act? | 2.8.
1.18 How does the Service determine if a proposed refuge management activity is the minimum requirement for administering the area as wilderness and necessary to accomplish the purposes the refuge, including Wilderness Act purposes? | 2.10, 2.15.
1.19 When must the Refuge System conduct a minimum requirement analysis? | 2.14.
1.20 Who makes minimum requirement decisions? | 2.16.
1.21 What is the relationship of the Minimum Requirement Analysis to the requirements of the National Environmental Policy Act? | New.
1.22 What effects do emergencies have on the uses generally prohibited by the Wilderness Act? | 2.13.
1.23 What effect does the Department of Homeland Security waiver of the Administration Act and the Wilderness Act have on the uses generally prohibited by the Wilderness Act? | New.
1.24 What are the training requirements for Refuge System staff? | 1.7.
1.25 What are the training requirements for Endangered Species and fisheries and Habitat Conservation staff? | 1.8.
1.26 When should State employees attend wilderness training? | 1.9.
Chapter 2 Wilderness Administration and Resource Stewardship
2.1 What is the purpose of this chapter? | 3.1.
2.2 What does this chapter cover? | 3.2.
2.3 What are the authorities that directly affect wilderness stewardship on Service lands? | 3.3.
2.4 What is the Service's general policy for wilderness administration and the stewardship of natural and cultural resources in wilderness? | 3.4.
2.5 Can the Service allow structures and installations in wilderness? | 3.5A., 4.13.
2.6 Can the Service allow roads and trails in wilderness? | 3.5B. and C., 4.13H.
2.7 Can the Service allow use of motorized vehicles, motorized equipment, and mechanical transport in wilderness? | 3.5D.
2.8 Can the Service manage aircraft use in and over wilderness? | 3.6A., 4.6E.
2.9 How does wilderness designation affect existing private rights? | New.
2.10 Can the Service authorize access through wilderness to non-Federal land where rights to access do not exist? | 3.5E.
2.11 Can the Service authorize rights-of-way in wilderness? | 3.5G.
2.12 Can the Service authorize commercial enterprises and services in wilderness? | 3.5F.
2.13 How does the Service manage permits for commercial services? | 3.5F.
2.14 Can the Service authorize mineral exploration and development activities in wilderness areas? | 3.5H.
2.15 Will the Service propose names for geographic features in wilderness? | 3.51.
2.16 How does the Service conserve wildlife and habitat in 2.12, wilderness? | 3.6C.
2.17 Can the Service introduce, transplant, or stock fish, wildlife, and plants in wilderness? | 3.6C.(3).
2.18 Can the Service use livestock grazing as a refuge management economic activity? | 3.6C.(2).
2.19 Can the Service control invasive species, pests, and diseases in wilderness? | 3.6C.(4).
2.20 Can the Service control predation in wilderness? | 3.6C.(6).
2.21 What is the Service's general policy for managing wilderness fires? | 5.4.
2.22 Can the Service manage wildland fire in wilderness? | 5.5.
2.23 Can the Service use prescribed fire in wilderness? | 5.6.
2.24 How does the Service accomplish emergency stabilization and rehabilitation in wilderness following a wildfire? | New.
2.25 How does the Service protect air resources in wilderness? | 3.6.D
2.26 How does the Service protect natural night skies and natural soundscapes in wilderness? | New.
2.27 How does the Service conduct research in wilderness? | 3.6.A.
2.28 How does the Service conduct inventory and monitoring 3.6.B, activities in wilderness? | 4.12.
2.29 How does the Service protect cultural resources in wilderness? | 3.7.
2.30 What are the Service's general public use guidelines 4.4, for wilderness? | 4.5.
2.31 What types of public uses does the Service prohibit in wilderness? | 4.6.
2.32 Can the Service allow use and grazing of recreational pack and saddle stock in wilderness? | 4.6.C.
2.33 How does the Service address visitor safety in wilderness? | 4.9.
2.34 How does the Service enhance solitude or opportunities for primitive and unconfined recreation in wilderness? | 4.8.
2.35 How can the Service best preserve a quality wilderness experience as well as the wilderness itself? | 4.7.
2.36 How does the Service inform and educate the public about wilderness? | 4.10.
2.37 What is the Leave No Trace (LNT) program? | 2.17, 4.11.
2.38 How does the Service address special needs for people with disabilities in wilderness? | 4.14.
Chapter 3 Wilderness Stewardship Planning
3.1 What is the purpose of this chapter? | 6.1.
3.2 What does this chapter cover? | 6.2.
3.3 What are the authorities that directly affect wilderness stewardship on Service lands? | 6.3.
3.4 What is a wilderness stewardship plan (WSP)? | 6.4, 6.5.
3.5 Does every wilderness area need a WSP? | 6.6.
3.6 Can refuge managers prepare a WSP for wilderness study areas (WSA) recommended for wilderness designation in a finalCCP, recommended wilderness areas, or proposed wilderness areas? | New.
3.7 Can refuge managers combine other step-down management plans with the WSP? | New.
3.8 What should a WSP contain? | 6.7.
3.9 How does the Service coordinate with States, other Federal agencies, and tribes in wilderness stewardship planning? | New.
3.10 How does the Service involve the public in wilderness stewardship planning? | 6.8.
3.11 How does the Service administer wilderness areas that do not have an approved WSP? | 6.9.
3.12 May the Service decide to implement a WSP that was completed before development of the refuge CCP? | 6.10.
3.13 How frequently should the Service revise WSPs? | 6.11.
3.14 How does wilderness stewardship planning work whenService wilderness adjoins wilderness of another Federal agency? | 6.12.
Chapter 4 Wilderness Review and Evaluation
4.1 What is the purpose of this chapter? | 7.1.
4.2 What does this chapter cover? | 7.2.
4.3 What are the authorities that directly affect wilderness reviews and management of WSAs, recommended wilderness, and proposed wilderness on Service lands? | 7.3.
4.4 What is a wilderness review? | 7.4.
4.5 When should the Service conduct a wilderness review? | 7.5, 7.7.
4.6 How do wilderness reviews relate to acquisition planning? | 7.6.
4.7 How does the Service identify WSAs in the wilderness inventory? | 7.8.
4.8 How does the Service evaluate the size criteria to identify a WSA during inventory? | 7.9.
4.9 How does the Service evaluate the naturalness criteria to identify a WSA during inventory? | 7.10.
4.10 How does the Service evaluate outstanding opportunities for solitude or a primitive and unconfined type of recreation during inventory? | 7.11.
4.11 Must an area contain ecological, geological, or other features of scientific, educational, scenic, or historic value to qualify as a WSA? | 7.12.
4.12 What factors does the Service consider when conducting a wilderness study? | 7.13.
4.13 In the wilderness study, how does the Service evaluate whether a WSA can be effectively managed as wilderness? | New.
4.14 What is the relationship between the wilderness study conclusions and the final CCP decisions? | New.
4.15 What level of NEPA documentation does the Service require for wilderness proposals? | New.
4.16 How does the Service involve stakeholders in wilderness reviews? | New.
4.17 What is the process for the Director's review and approval of wilderness recommendations in CCPs? | 7.14.
4.18 What is included in the wilderness study report? | 7.15.
4.19 What additional documents does the Service need to prepare for Secretarial approval of the wilderness recommendation? | 7.16.
4.20 What are the steps for forwarding or reporting the Service's wilderness recommendations? | 7.14.
4.21 What is the Service's general policy for managing WSAs? | 7.17.
4.22 What is the Service's general policy for managing recommended wilderness? | New.
4.23 What is the Service's general policy for managing proposed wilderness? | 7.18.
Chapter 5 Special Provisions for Alaska Wilderness
5.1 What is the purpose of this chapter? | New.
5.2 What does this chapter cover? | New.
5.3 How do the other chapters in the Service's wilderness policy (610 FW 1-4) apply to Alaska wilderness? | 1.2, 2.2, 3.2, 4.2, 5.2, 6.2, 7.2.
5.4 How do the special provisions of ANILCA affect the need for a minimum requirement analysis (MRA) for proposed refuge management activities and facilities in Alaska wilderness? | 2.llA., 3.5A.(3), 3.5D.
5.5 What special provisions apply to public access for traditional activities and travel to and from villages and homesites? | 3.5E.(2).
5.6 What special provisions apply to access to inholdings in Alaska wilderness areas? | 3.5E.(1).
5.7 What special provisions apply to public access to subsistence resources? | 2.18.
5.8 What special provisions apply to authorization of temporary access to non-Federal lands? | New.
5.9 What special provisions apply to helicopter access in Alaska wilderness areas? | New.
5.10 What special provisions apply to rights-of-way for transportation and utility systems in and across Alaska wilderness areas? | 3.5G.
5.11 What special provisions apply to assessment, exploration, and development of mineral resources on Alaska wilderness areas? | 3.5H.(1).
5.12 Does the Service allow the use of motorized equipment in Alaska wilderness areas? | 3.5D.
5.13 What provisions apply to commercial enterprises and services in Alaska wilderness areas? | 3.5F.
5.14 What special provisions apply to management of structures and installations in Alaska wilderness areas? | 3.5A.
5.15 What temporary facilities and equipment related to the taking of fish and wildlife does the Service authorize in Alaska wilderness areas? | 1.6W., 3.5F.(l).
5.16 What special provisions apply to management of fish populations on Alaska wilderness areas? | New.
5.17 Does the Service conduct wilderness reviews of refuge lands in Alaska? | New.
5.18 What is the Service's general policy for managing wilderness study areas (WSAs), recommended wilderness, and proposed wilderness in Alaska? | New.

Required Determinations.

Regulatory Planning and Review. The Office of Management and Budget (OMB) has determined that this policy is significant and has reviewed this policy under Executive Order 12866 (E.O. 12866). OMB bases its determination upon the following four criteria:

(a) Whether the policy will have an annual effect of $100 million or more on the economy or adversely affect an economic sector, productivity, jobs, the environment, or other units of the government.

(b) Whether the policy will create inconsistencies with other Federal agencies' actions.

(c) Whether the policy will materially affect entitlements, grants, user fees, loan programs, or the rights and obligations of their recipients.

(d) Whether the policy raises novel legal or policy issues.

Regulatory Flexibility Act. Under the Regulatory Flexibility Act (as amended by the Small Business Regulatory Enforcement Fairness Act {SBREFA} of 1996) (5 U.S.C. 601, et seq.), whenever a Federal agency is required to publish a notice of rulemaking for any proposed or final policy, it must prepare and make available for public comment a regulatory flexibility analysis that describes the effect of the policy on small entities (i.e., small businesses, small organizations, and small government jurisdictions). However, no regulatory flexibility analysis is required if the head of an agency certifies that the policy would not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a policy would not have a significant economic impact on a substantial number of small entities.

This policy is administrative, legal, technical, and procedural in nature and provides updated instructions for the maintenance of wilderness areas on the National Wildlife Refuge System. This policy does not increase the types of recreation allowed on the System but establishes an emphasis on the characteristics desired for a wilderness experience. As a result, there may be opportunities for an increase in wilderness experiences on national wildlife refuges with designated wilderness areas. The changes in the wilderness areas are likely to increase visitor activity on these national wildlife refuges.

From 1999 to 2003, the number of wilderness visitors averaged 501,147 visitors annually, comprising about 1.3 percent of all refuge visitors. There are insufficient data to provide more than broad estimates about the effects of this updated policy on public use of wilderness areas on national wildlife refuges. The Service expects that refuges that improve the quality of their wilderness areas, and thereby increase the opportunities for high-quality wilderness experiences, will see an increase in public use. With this policy, the Service estimates that on balance there will be up to a 10 percent increase in the public's use of wilderness areas on refuges. Thus, we expect an increase of approximately 50,115 wilderness visitors annually.

New recreational user days generate expenditures associated with recreational activities on refuges' wilderness areas. Due to the unavailability of site-specific expenditure data, we use the national estimates from the 2006 National Survey of Fishing, Hunting, and Wildlife Associated Recreation to identify expenditures for food and lodging, transportation, and other incidental expenses. Using the average trip-related expenditures for fishing, hunting, and wildlife watching activities with the maximum expected additional participation on the Refuge System yields approximately $1.8 million in wilderness-related expenditures (50,115 days × $35.35 per day).

By having ripple effects throughout the economy, these direct expenditures are only part of the economic impact of wilderness recreation. Using an average national impact multiplier for hunting and fishing activities (2.72) derived from the reports “Economic Importance of Hunting in America” and “Sportfishing in America” for the estimated increase in direct expenditures yields a total economic impact of approximately $4.8 million (2007 dollars) (Southwick Associates, Inc., 2007). (Using a local impact multiplier would yield more accurate and smaller results. However, we employed the national impact multiplier due to the difficulty in developing local multipliers for each specific region.)

Since we know that most of the fishing and hunting occurs within 100 miles of a participant's residence, then it is unlikely that most of this spending would be “new” money coming into a local economy; therefore, this spending would be offset with a decrease in some other sector of the local economy. The net gain to the local economies would be no more than $4.8 million, and most likely considerably less. Since 80 percent of the participants travel less than 100 miles to engage in hunting and fishing activities, their spending patterns would not add new money into the local economy. Furthermore, the probability of all refuges with wilderness programs being upgraded to true wilderness characteristics, as defined by Congress, is very low. Resource constraints have kept these refuges from upgrading wilderness experiences and it is unlikely that this updated policy will cause all refuges with wilderness designation to upgrade their programs immediately. As a result, the real impact would be on the order of $964,000 annually.

Many small businesses within the retail trade industry (such as hotels, gas stations, taxidermy shops, bait and tackle shops, etc.) may benefit from increased refuge visitation. A large percentage of these retail trade establishments near the refuges most likely qualify as small businesses. We expect that the incremental recreational opportunities will be scattered across the refuges that offer wilderness recreational opportunities, and so we do not expect that the policy will have a significant economic effect (benefit) on a substantial number of small entities in any region or nationally.

With the small increase in overall spending anticipated from this policy, it is unlikely that a substantial number of small entities will have more than a small benefit from the increased spending near the affected refuges. Therefore, we certify that this policy will not have a significant economic effect on a substantial number of small entities as defined under the Regulatory Flexibility Act (5 U.S.C. 601 et seq.). An initial/final Regulatory Flexibility Analysis is not required. Accordingly, a Small Entity Compliance Guide is not required.

Small Business Regulatory Enforcement Fairness Act. The policy is not a major policy under 5 U.S.C. 804(2), the Small Business Regulatory Enforcement Fairness Act. This policy:

a. Does not have an annual effect on the economy of $100 million or more. The addition of some wilderness experience opportunities at refuges would generate expenditures by wilderness participants with an economic impact estimated at $964,000 million per year. Consequently, the maximum benefit of this policy for businesses both small and large would not be sufficient to make this a major policy. The impact would be scattered across the country and would most likely not be significant in any local area.

b. Will not cause a major increase in costs or prices for consumers, individual industries, Federal, State, or local government agencies, or geographic regions. This policy will have a small effect on the expenditures of new participants for wilderness opportunities of Americans. Under the assumption that all wilderness opportunities would be of high quality, participants would be attracted to the refuge system. If the refuge were closer to the participant's residence than alternative sources of wilderness experiences then a reduction in travel costs would occur and benefit the participants. The Service does not have information to quantify this reduction in travel cost but has to assume that since most people travel less than 100 miles to hunt and fish, that the reduced travel cost would be small for the additional days of wilderness activities generated by this policy. This policy is not expected to significantly affect the supply or demand for wilderness opportunities in the U.S. and therefore should not affect prices for equipment and supplies, or the retailers that sell equipment. Refuge system wilderness opportunities account for a small portion of the wilderness opportunities available in the contiguous United States.

c. Does not have significant adverse effects on competition, employment, investment, productivity, innovation, or the ability of U.S. based enterprises to compete with foreign-based enterprises. Because this policy represents such a small proportion of wildlife related recreational spending, there will be no measurable economic effect on the wildlife-dependent industry which has annual sales of equipment and travel expenditures of $72 billion nationwide. Refuge visitors averaged 501,147 visits to refuges for wilderness activities from 1999 to 2003 compared to 37.1 million visitors for all activities on refuge system lands. This policy seeks to preserve wilderness characteristics for those participants who want this experience and is aimed at providing guidance to Federal managers in establishing quality programs where the opportunity exists for wilderness programs. Refuges that have or establish wilderness programs may hire additional staff from the local community to assist with the programs but this would not be a significant increase with a total of 66 refuges participating. Consequently, there is no significant employment or small business effects.

Unfunded Mandates Reform Act. In accordance with the Unfunded Mandates Reform Act (2 U.S.C. 1501, et seq.):

a. This policy will not “significantly or uniquely” affect small governments. A Small Government Agency Plan is not required. See B(1)(a).

b. This policy will not produce a Federal mandate of $100 million or greater in any year, i.e., it is not a “significant regulatory action” under the Unfunded Mandates Reform Act. V Takings. In accordance with Executive Order 12630, the policy does not have significant takings implications. A takings implication assessment is not required. This policy will not change the ability of inholders to access their property, although it may affect the way in which they may access it. Depending on the specifics of the easements of record, outstanding rights-of-way, enabling legislation, or other rights granted by law, inholders may be required to modify their modify their: routes of entry so that access will be through a non-wilderness area; method of access, and use non-motorized means; or time of entry, to disturb the fewest wilderness users.

Federalism. As discussed in B(1)a, this policy does not have significant Federalism effects to warrant the preparation of a Federalism Assessment under Executive Order 12612. This policy will not have substantial direct effects on the States, in their relationship between the Federal Government and the States, or on the distribution of power and responsibilities among the various levels of government.

Civil Justice Reform. In accordance with Executive Order 12988, it has been determined that the policy does not unduly burden the judicial system and meets the requirements of sections 3(a) and 3(b)(2) of the Order. The policy will clarify established policy and result in better understanding of the policies by refuge wilderness visitors.

Paperwork Reduction Act. This policy does not require any information collection from 10 or more parties and a submission under the Paperwork Reduction Act of 1995 is not required.

National Environmental Policy Act. We have analyzed this policy in accordance with the criteria of the National Environmental Policy Act and 40 CFR 1508. This policy does not constitute a major Federal action significantly affecting the quality of the human environment. This policy is administrative, legal, technical, and procedural in nature and provides updated instructions for the stewardship of wilderness areas on the National Wildlife Refuge System. The environmental effects are too speculative or conjectural to lend themselves to meaningful analysis and will later be subjected to the NEPA process on a case-by-case basis. Extraordinary circumstances may exist for individual actions that may occur in implementing this policy that would constitute an exception to the categorical exclusion of the policy as a whole. Again, those individual actions will be subject to future NEPA analysis. An environmental assessment is not required at this time. (See B(1)d.)

Wilderness stewardship plans will need to be developed for all refuges with wilderness. These plans will either be incorporated directly into refuge comprehensive conservation plans or as step-down management plans, pursuant to our refuge planning guidance in 602 FW 1-3. We prepare these plans in compliance with section 102(2)(C) of NEPA, and the Council on Environmental Quality's regulations for implementing NEPA in 40 CFR parts 1500-1508. We invite the affected public to participate in the review, development, and implementation of these plans.

Government-to-Government Relationship with Tribes. In accordance with the President's memorandum of April 29, 1994, “Government-to-Government Relations with Native American Tribal Governments” (59 FR 22951) and 512 DM 2 we have evaluated possible effects on Federally-recognized Indian tribes and have determined that there are no effects. We coordinate wilderness use on national wildlife refuges with Tribal governments having adjoining or overlapping jurisdiction.

Dated: November 7, 2008.
Rowan W. Gould,
Acting Director, U.S. Fish and Wildlife Service.

[FR Doc. E8-27014 Filed 11-14-08; 8:45 am]

BILLING CODE 4310-55-M